ENVIRONMENTAL PROTECTION AGENCY

[EPA-HQ-OAR-2014-0743; FRL-9929-52-OEI]

Agency Information Collection Activities; Submission to OMB for Review and Approval; Comment Request; Protection of Stratospheric Ozone: Critical Use Exemption From the Phaseout of Methyl Bromide (Renewal)

AGENCY: Environmental Protection Agency (EPA).

ACTION: Notice.

SUMMARY: The Environmental Protection Agency has submitted an information collection request (ICR), “Protection of Stratospheric Ozone: Critical Use Exemption from the Phaseout of Methyl Bromide (Renewal)” (EPA ICR No.2031.08, OMB Control No. 2060-0482) to the Office of Management and Budget (OMB) for review and approval in accordance with the Paperwork Reduction Act (44 U.S.C. 3501 et seq.). This is a proposed extension of the ICR, which is currently approved through June 30, 2015. Public comments were previously requested via the Federal Register (79 FR 78425) on December 30, 2014 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 27, 2015.

ADDRESSES: Submit your comments, referencing Docket ID Number EPA-HQ-OAR-2004-0501, to (1) EPA online using www.regulations.gov (our preferred method), by email to a-and-r-docket@epamail.epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jeremy Arling, Stratospheric Protection Division, Office of Atmospheric Programs, (6205T), Environmental Protection Agency, 1200 Pennsylvania Ave. NW., Washington, DC 20460; telephone number: (202) 343-9055; fax number: (202) 343-2338; email address: arling.jeremy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA is seeking to renew this ICR to collect methyl bromide Critical Use Exemption (CUE) applications from regulated entities on an annual basis, which requires the submission of data from regulated industries to the EPA and requires recordkeeping of key documents to ensure compliance with the Montreal Protocol on Substances that Deplete the Ozone Layer (Protocol) and the CAA. This information collection is conducted to meet U.S. obligations under Article 2H of the Montreal Protocol on Substances that Deplete the Ozone Layer (Protocol).

Since 2002, entities have applied to EPA for a critical use exemption that would allow for the continued production and import of methyl bromide after the phaseout in January 2005. On an annual basis, EPA uses the data submitted by end users to create a nomination of critical uses, which are submitted to the Protocol's Ozone Secretariat for review by advisory bodies, including the Methyl Bromide Technical Options Committee (MBTOC) and the Technical and Economic Assessment Panel (TEAP). The uses authorized internationally by the Parties to the Protocol are made available in the U.S. on an annual basis.

The applications will enable EPA to: (1) Maintain consistency with the Protocol by supporting critical use nominations to the Parties to the Protocol, in accordance with paragraph 2 of Decision IX/6 of the Protocol; (2) Ensure that critical use exemptions comply with section 604(d)(6); and (3) Provide EPA with necessary data to evaluate the technical and economic feasibility of methyl bromide alternatives in the circumstance of the specific use, as presented in an application for a critical use exemption.

The reported data will enable EPA to: (1) Ensure that critical use exemptions comply with section 604(d)(6); (2) Maintain compliance with the Protocol requirements for annual data submission on the production of ozone depleting substances; and (3) Analyze technical use data to ensure that exemptions are used in accordance with requirements included in the annual allocation rulemakings.

EPA informs respondents that they may assert claims of business confidentiality for any of the information they submit. Information claimed confidential will be treated in accordance with the procedures for handling information claimed as confidential under 40 CFR part 2, subpart b, and will be disclosed only if EPA determines that the information is not entitled to confidential treatment. If no claim of confidentiality is asserted when the information is received by EPA, it may be made available to the public without further notice to the respondents (40 CFR 2.203). Individual reporting data may be claimed as sensitive and will be treated as confidential information in accordance with procedures outlined in 40 CFR part 2.

Respondents/affected entities: Producers, importers, distributors and custom applicators of methyl bromide; organizations, consortia and associations of methyl bromide users; and individual methyl bromide users.

Respondent's obligation to respond: Required to obtain a benefit under section 604(d)(6) of the CAA.

Estimated number of respondents: 1069 (total).

Frequency of response: Quarterly, annually, on occasion.

Total estimated burden: 1,595 hours (per year). Burden is defined at 5 CFR 1320.03(b)

Total estimated cost: $624,721 (per year), includes no annualized capital or operation & maintenance costs.

Changes in the Estimates: There is a decrease of 1,662 hours in the total estimated respondent burden compared with the burden currently approved by OMB. The primary reason for the decrease in burden hours is a decrease in the number of applicants, end users and distributors of methyl bromide. The CUE Allocation rule for 2014/2015 removed minor reporting and recordkeeping requirements related to critical stock allowances. In addition, after December 31, 2014, when methyl bromide is phased out in developing countries, certain reporting requirements related to the production and export of methyl bromide to those countries are no longer applicable.

Courtney Kerwin,
Acting Director, Collection Strategies Division.

[FR Doc. 2015-15673 Filed 6-25-15; 8:45 am]

BILLING CODE 6560-50-P